DEPARTMENT OF TRANSPORTATION

Federal Railroad Administration

[Docket No. FRA-2020-0027-N-38]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before March 1, 2021.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Conductor Certification.

OMB Control Number: 2130-0596.

Abstract: FRA's conductor certification regulation (49 CFR part 242) requires railroads to have a formal program for certifying conductors. As part of that program, railroads are required to have a formal process for training prospective conductors and determining that all persons are competent before permitting them to serve as a conductor. FRA intended the regulation to ensure that only those persons who meet minimum Federal safety standards serve as conductors. FRA collects information to ensure that railroads and their employees fully comply with all the requirements of part 242, including a conductor certification/recertification program, fitness requirements, initial and periodic testing of conductors, and territorial qualifications.

Type of Request: Extension with change (estimates) of a currently approved collection.

Affected Public: Businesses.

Form(s): N/A.

Respondent Universe: 765 railroads.

Frequency of Submission: On occasion.

Reporting Burden:

CFR section ¹ | Respondent universe | Total annual responses | Average time per response | Total annual burden hours | Total cost equivalent ²
242.9—Waivers—petitions | 765 railroads | 3 petitions | 3 hours | 9 | $693
242.103(b)—Approval of design of individual railroad programs by FRA—Certification programs for new railroads | 3 new railroads | 3 new conductor certification programs | 8 hours | 24 | 2,880
—(c)(1) Conductor certification submission—Copies to rail labor organizations (RLOs) | 765 railroads | 6 certification program submission copies | 15 minutes | 2 | 154
—(c)(2) Affirmative statements that copies of submissions were sent to RLOs | 765 railroads | 6 affirmative statements | 15 minutes | 2 | 154
—(d) Certified comments on submissions | 765 railroads | 6 certified comments | 4 hours | 24 | 1,848
—(g) Certification programs disapproved by FRA and then revised | 765 railroads | 15 modified programs | 3 hours | 45 | 3,465
—(h) Revised certification programs still not conforming and then resubmitted | 765 railroads | 3 resubmitted certification programs | 2 hours | 6 | 462
—(i)(2) Certification programs materially modified after initial FRA approval | 765 railroads | 15 certificate program material modifications | 2 hours | 30 | 2,310
—(i)(3) Materially modified programs disapproved by FRA and then revised | 765 railroads | 3 modified certification programs | 2 hours | 6 | 462
242.107—Types of service—reclassification to passenger conductor or RR imposes restrictions | 35 railroads | 400 records of trainings | 2 minutes | 13 | 767
242.109—Opportunity for certification candidates to review and comment on prior safety record, and RRs to retain/respond to comments | 765 railroads | 200 records + 200 comments | 30 minutes + 10 minutes | 133 | 9,647
242.111(b)—Prior safety conduct as motor vehicle operator—eligibility determinations | 765 railroads | 16,200 eligibility determinations | 10 minutes | 2,700 | 207,900
—(c) Initial certification for 60 days | 765 railroads | 150 initial certifications | 10 minutes | 25 | 1,925
—(d) Recertification for 60 days | 765 railroads | 125 re-certifications | 10 minutes | 21 | 1,617
—(h) Request to obtain driver's license information from licensing agency | 48,500 conductors | 16,200 written requests | 15 minutes | 4,050 | 238,950
—(k) Notification to RR by persons of never having a license | 48,500 conductors | 25 notices | 10 minutes | 4 | 236
—(l) Report of motor vehicle incidents | 48,500 conductors | 400 self-reporting | 10 minutes | 67 | 3,953
—(m)-(n) Evaluation of driving record | 48,500 conductors | 16,200 motor vehicle record evaluations | 5 minutes | 1,350 | 79,650
—(o)(1) Drug and alcohol counselor (DAC) referral by RR after report of driving drug/alcohol incident | 765 railroads | 400 DAC referrals | 5 minutes | 33 | 3,960
—(o)(2) DAC request and supply by persons of prior counseling or treatment | 765 railroads | 20 requests and supplied records | 30 minutes | 10 | 1,200
—(o)(3) Conditional certifications recommended by DAC | 765 railroads | 50 conditional certification recommendations | 4 hours | 200 | 24,000
242.113—Prior safety conduct as employee of a different railroad | 48,500 conductors | 360 requests + 360 records | 15 minutes + 30 minutes | 270 | 20,790
242.115(b)—Determination that person meets eligibility requirements | 48,500 conductors | 16,200 determinations | 2 minutes | 540 | 31,860
—(c) Written documents from DAC that person is not affected by a substance abuse disorder | 48,500 conductors | 400 filed documents | 30 minutes | 200 | 24,000
—(d) Self-referral by conductors for substance abuse counseling | 765 railroads | 30 self-referrals | 10 minutes | 5 | 600
—(e) Certification reviews for occurrence/documentation of prior alcohol/drug conduct by persons/conductors | 765 railroads | 16,200 certification reviews | 10 minutes | 2,700 | 324,000
—(e)(3)(i) Written determination that most recent incident has occurred | 765 railroads | 150 written determinations | 1 hour | 150 | 18,000
—(e)(3)(ii) Notification to person that recertification has been denied | 765 railroads | 300 notifications | 30 minutes | 150 | 11,550
—(e)(4) Persons/conductors waiving investigation/de-certifications | 48,500 conductors | 300 waived investigations | 10 minutes | 50 | 2,950
242.117(b)—Vision and hearing acuity—determination vision standards met | 765 railroads | 16,200 records | 2 minutes | 540 | 64,800
—(b) Determination hearing standards met | 765 railroads | 16,200 records | 2 minutes | 540 | 64,800
—(c)(1) Medical examiner certificate that person has been examined/passed test | 765 railroads | 16,200 medical examiner certificates | 10 minutes | 2,700 | 324,000
—(c)(2)(i) Document standards met with conditions | 765 railroads | 100 written documents | 30 minutes | 50 | 6,000
—(c)(2)(ii) Document standards not met | 765 railroads | 100 written documents | 30 minutes | 50 | 6,000
—(e) Notation person needs corrective device (glasses/hearing aid) | 765 railroads | 5,000 certificate notifications | 10 minutes | 833 | 99,960
—(j) Request for further medical evaluation for new determination | 765 railroads | 100 requests + 100 records of field tests | 30 minutes + 10 minutes | 67 | 4,950
—(j) Request for second retest and another medical evaluation | 765 railroads | 25 retest requests + 25 reviews | 30 minutes + 10 minutes | 17 | 1,238
—(j) Consultations by medical examiners with railroad officer and issue of conditional certification | 765 railroads | 100 consults + 100 certifications | 30 minutes + 10 minutes | 67 | 7,283
—(k) Notification by certified conductor of deterioration of vision/hearing | 765 railroads | 20 notifications | 10 minutes | 3 | 177
242.119(a)—Training—new railroads—training program | 3 new railroads | 3 training programs | 3 hours | 9 | 1,080
—(a) Modification to training program | 765 railroads | 3 programs | 30 minutes | 2 | 154
—(c) Completion of training program by conductors/persons—documents | 765 railroads | 100 written documents | 1 hour | 100 | 7,700
—(d)(5) Modified training programs due to new laws, regulations, orders, technologies, procedures, or equipment | 765 railroads | 24 modified training programs | 2 hours | 48 | 3,696
—(f) Employee consultation with qualified supervisory employee if given written test to demonstrate knowledge of physical characteristics of any assigned territory | 765 railroads | 1,000 consultations | 15 minutes | 250 | 14,750
—(i) Familiarization training for conductor of acquiring railroad from selling company/railroad prior to commencement of new operation | 765 railroads | 20 training records | 15 minutes | 5 | 295
—(l) RR continuous education/training of conductors | 765 railroads | 16,200 training records | 15 minutes | 4,050 | 238,950
242.121(a)—Knowledge testing—determining eligibility | 765 railroads | 16,200 examination records | 15 minutes | 4,050 | 238,950
—(g) Retests/re-examinations | 765 railroads | 1,000 retests or reexamination records | 15 minutes | 250 | 14,750
242.123(c)—Monitoring operational performance —unannounced compliance tests and records | 765 railroads | 16,200 unannounced compliance test records | 10 minutes | 2,700 | 207,900
—(f) Return to service that requires unannounced compliance test/record | 765 railroads | 1,000 unannounced compliance test records | 10 minutes | 167 | 12,859
242.125—Determination made by railroad relying on another railroad's certification | 765 railroads | 100 determinations | 30 minutes | 50 | 2,950
242.127—Reliance on qualification requirements of other countries | 765 railroads | 20 determinations | 30 minutes | 10 | 590
242.203(b)—Retaining information supporting determination—records | 765 railroads | 16,200 record retentions | 15 minutes | 4,050 | 311,850
—(c) Amended electronic records | 765 railroads | 20 amended records | 30 minutes | 10 | 770
242.209(a)—Maintenance of certificates—request to display certificate | 765 railroads | 2,000 displayed certificates | 2 minutes | 67 | 3,953
—(b) Notification by conductors that RR request to serve exceeds certification | 765 railroads | 1,000 notifications | 10 minutes | 167 | 9,853
242.211—Replacement of certificates | 765 railroads | 500 temporary replacement certificates | 5 minutes | 42 | 3,234
242.213(e)—Multiple certificates—notification to engineer that no conductor is on train | 35 railroads | 5 locomotive engineer notifications | 10 minutes | 1 hour | 70
—(f) Notification of denial of certification by individuals holding multiple certifications | 765 railroads | 10 notifications | 10 minutes | 2 | 118
242.215(a)—Railroad oversight responsibility—review and analysis of administration of certification program | 53 railroads | 53 reviews and analyses | 40 hours | 2,120 | 163,240
—(d) Report of findings by RR to FRA | 765 railroads | 53 reports | 4 hours | 212 | 16,324
242.301(a)—Determinations—territorial qualification and joint operations | 320 railroads | 1,000 determinations | 15 minutes | 250 | 14,750
—(b) Notification by persons who do not meet territorial qualification | 320 railroads | 500 notifications | 10 minutes | 83 | 4,897
242.401(a)—Denial of certification—notification to candidate of information that forms basis for denying certification | 765 railroads | 40 notices + 40 responses | 1 hour + 1 hour | 80 | 5,440
—(c) Written notification of denial of certification, including the basis and response to any rebuttal from the candidate | 765 railroads | 80 notifications | 1 hour | 80 | 6,160
242.403—Criteria for revoking certification—review of compliance conduct | 765 railroads | 1,000 certification reviews | 15 minutes | 250 | 14,750
242.405—Period of ineligibility—written determination that the most recent incident has occurred | 765 railroads | 1,000 written determinations | 1 hour | 1,000 | 59,000
242.407(a)—Process for revoking certification —revocation for violations of § 242.115(e) | 765 railroads | 1,000 revoked certifications | 8 hours | 8,000 | 960,000
—(b)(1) Immediate suspension of certificate | 765 railroads | 1,000 suspended certification letters | 1 hour | 1,000 | 77,000
—(b)(5) Determinations based on railroad hearing record | 765 railroads | 1,000 determinations | 15 minutes | 250 | 14,750
—(b)(7) Hearing record | 765 railroads | 1,000 records | 15 minutes | 250 | 19,250
—(c) Written decisions by railroad official | 765 railroads | 1,000 written decisions | 2 hours | 2,000 | 240,000
—(c) Service of written decision on employee by RR and RR retains proof of service | 765 railroads | 1,000 served written decisions + 1,000 service proofs | 10 minutes + 5 minutes | 250 | 19,250
—(f) Written waiver of right to hearing | 48,500 conductors | 700 written waivers | 10 minutes | 117 | 6,903
—(g) Revocation of certification based on information that another railroad has done so | 765 railroads | 15 revoked certifications | 10 minutes | 3 | 360
—(j) Placing relevant information in record prior to suspending certification/convening hearing | 765 railroads | 100 updated records | 1 hour | 100 | 7,700
Totals | 765 railroads | 222,386 responses | N/A | 49,761 | 4,303,437

Total Estimated Annual Responses: 222,386.

¹ The current inventory exhibits a total burden of 856,406 hours while the total burden of this notice is 49,761 hours. FRA determined some of the burdens were outdated and already completed. Other burdens were not derived from PRA requirements, thus leading to the increased figures in the current inventory, which were decreased accordingly in this notice. Also, totals may not add due to rounding.

² The dollar equivalent cost is derived from the Surface Transportation Board's Full Year Wage A&B data series using the appropriate employee group hourly wage rate that includes a 75-percent overhead charge.

Total Estimated Annual Burden: 49,761 hours.

Total Estimated Annual Burden Hour Dollar Cost Equivalent: $4,303,437.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-28832 Filed 12-29-20; 8:45 am]

BILLING CODE 4910-06-P